DEPARTMENT OF THE INTERIOR

Fish and Wildlife Service

[FWS-R9-IA-2009-N0022; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by March 6, 2009.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: University of Washington, National Primate Research Center, Seattle, WA, PRT-199108

The applicant requests a permit to import blood samples of Bornean orangutans (Pongo pygmaeus) from Canada for the purpose of scientific research on the incidence of disease in captive-held orangutans in an Indonesian orangutan rehabilitation center. This notification covers a one-time import.

Applicant: Gibbon Conservation Center, Santa Clarita, CA, PRT-204841

The applicant requests a permit to import two male captive-born siamangs (Symphalangus syndactylus), and one male captive-born Javan gibbon (Hylobates moloch) from the Port Lympne Wild Animal Park, United Kingdom, for the purpose of enhancement of the species through captive breeding.

Applicant: Gibbon Conservation Center, Santa Clarita, CA, PRT-204842

The applicant requests a permit to export one male and re-export one female captive-born siamang (Symphalangus syndactylus) to the Zooz Park, Ontario, Canada, for the purpose of enhancement of the species through captive breeding.

Applicant: David L. Clark, Seattle, WA, PRT-203410

The applicant requests a permit to import the sport-hunted trophy of one female brown hyena (Parahyaena brunnea) from Namibia for personal use.

Applicant: Roger A. Rose, West Olive, MI, PRT-203526

The applicant requests a permit to import the sport-hunted trophy of one male bontebok (Damaliscus pygargus pygargus) culled from a captive herd maintained under the management program of the Republic of South Africa, for the purpose of enhancement of the survival of the species.

Applicant: Anthony J. White, Rison, AR, PRT-203517

The applicant requests a permit to import the sport-hunted trophy of one male bontebok (Damaliscus pygargus pygargus) culled from a captive herd maintained under the management program of the Republic of South Africa, for the purpose of enhancement of the survival of the species.

Applicant: Leslie F. Howell Jr., Clearwater, FL, PRT-203831

The applicant requests a permit to import the sport-hunted trophy of one male bontebok (Damaliscus pygargus pygargus) culled from a captive herd maintained under the management program of the Republic of South Africa, for the purpose of enhancement of the survival of the species.

Dated: January 23, 2009.
Lisa J. Lierheimer,
Senior Permit Biologist, Branch of Permits, Division of Management Authority.

[FR Doc. E9-2309 Filed 2-3-09; 8:45 am]

BILLING CODE 4310-55-P